DEPARTMENT OF JUSTICE

Notice of Lodging Proposed Consent Decree Clean Air Act

On October 1, 2012, the Department of Justice lodged a proposed Consent Decree with the United States District Court for the District of New Jersey in the lawsuit entitled United States and State of New Jersey v. Durand Glass Manufacturing Company, Inc., Civil Action No. 1:12-cv-06115-RBK-JS.

The action involves alleged violations of the Clean Air Act, 42 U.S.C. 7401, et seq., and N.J.A.C. 7:27-22.1, et seq., at Durand Glass Manufacturing Company, Inc.'s facility located in Millville, New Jersey, in regard to Durand's failure to comply with prevention of significant deterioration, new source review, and permit requirements. The action seeks civil penalties and injunctive relief. Pursuant to the Decree, Durand will pay a civil penalty of $300,000 (based on Durand's inability to pay a larger penalty), and agreed to install advanced emission control devices on the three glass furnaces at the facility.

The publication of this notice opens a period for public comment on the Consent Decree. Comments should be addressed to the Assistant Attorney General, Environment and Natural Resources Division, and should refer to United States, et al. v. Durand Glass Manufacturing Company, Inc., D.J. Ref. No. 90-5-2-1-09182. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $18.75 (25 cents per page reproduction cost) payable to the United States Treasury.

Ronald Gluck,
Assistant Section Chief, Environmental Enforcement Section, Environment and Natural Resources Division.

[FR Doc. 2012-24562 Filed 10-4-12; 8:45 am]

BILLING CODE 4410-15-P